NATIONAL ARCHIVES AND RECORDS ADMINISTRATION

Advisory Committee on the Records of Congress; Meeting

AGENCY: National Archives and Records Administration.

ACTION: Notice of meeting.

SUMMARY: In accordance with the Federal Advisory Committee Act, the National Archives and Records Administration (NARA) announces a meeting of the Advisory Committee on the Records of Congress. The committee advises NARA on the full range of programs, policies, and plans for the Center for Legislative Archives in the Office of Records Services.

DATES: December 10, 2001, from 10:30 a.m. to 11:30 a.m.

ADDRESSES: Members Room, Library of Congress, Thomas Jefferson Building, Room LJ-162.

FOR FURTHER INFORMATION CONTACT: Michael L. Gillette, Director, Center for Legislative Archives, (202) 501-5350.

SUPPLEMENTARY INFORMATION:

Agenda

SAA Forum on the Third Advisory Committee Report—Summary

Center for Legislative Archives—Update

Other current issues and new business

The meeting is open to the public.

Dated: November 19, 2001.
Mary Ann Hadyka,
Committee Management Officer.

[FR Doc. 01-29398 Filed 11-26-01; 8:45 am]

BILLING CODE 7515-01-U